DEPARTMENT OF ENERGY

Federal Energy Regulatory Commission

Notice of Application Tendered for Filing With the Commission, Soliciting Additional Study Requests, and Establishing Procedural Schedule for Relicensing and a Deadline for Submission of Final Amendments

January 7, 2003.

Take notice that the following hydroelectric applications have been filed with the Commission and are available for public inspection.

a. Type of Applications: New Major Licenses.

b. Projects: Spring Gap-Stanislaus Project No. 2130-033, Donnells-Curtis Transmission Line Project No. 2118-007, Beardsley/Donnells Project No. 2005-012, and Tulloch Project No. 2067-020.

c. Dates Filed: P-2130 and P-2118 filed December 26, 2002; P-2005 and P-2067 filed December 23, 2002.

d. Applicant: Pacific Gas and Electric Company, current licensee for P-2130 and P-2118; and Tri-Dam Project, current licensee for P-2005 and P-2067.

e. Location: On the Middle Fork, South Fork, and mainstem of the Stanislaus River in Toulumne and Calaveras counties, California. All of the Beardsley/Donnell Project, most of the Spring Gap-Stanislaus Project, and all of the Donnell-Curtis Transmission Line Project are located within the Stanislaus National Forest.

f. Filed Pursuant to: Federal Power Act 16 U.S.C. §§ 791 (a)-825(r).

g. Applicant Contact: Mr. Randy Livingston, Pacific Gas and Electric Company, PO Box 770000, Mail Code: N11C, San Francisco, CA 94117; and Mr. Steve Felte, Tri-Dam Project, P.O. Box 1158, Pinecrest, CA 95364.

h. FERC Contact: Susan O'Brien, (202) 502-8449 or susan.obrien@ferc.gov.

i. Cooperating agencies: We are asking Federal, state, local, and tribal agencies with jurisdiction and/or special expertise with respect to environmental issues to cooperate with us in the preparation of the environmental document. Agencies who would like to request cooperating status should follow the instructions for filing comments described in item k. below.

j. Pursuant to Section 4.32(b)(7) of 18 CFR of the Commission's regulations, if any resource agency, Indian Tribe, or person believes that an additional scientific study should be conducted in order to form an adequate factual basis for a complete analysis of the applications on their merits, the resource agency, Indian Tribe, or person must file a request for a study with the Commission not later than 60 days from the date of filing of the applications, and serve a copy of the request on the applicant.

k. Deadline for filing additional study requests and requests for cooperating agency status: February 24, 2003.

All documents (original and eight copies) should be filed with: Magalie R. Salas, Secretary, Federal Energy Regulatory Commission, 888 First Street, NE., Washington, DC 20426.

The Commission's rules of practice require all intervenors filing documents with the Commission to serve a copy of that document on each person on the official service list for the project. Further, if an intervenor files comments or documents with the Commission relating to the merits of an issue that may affect the responsibilities of a particular resource agency, they must also serve a copy of the document on that resource agency.

Additional study requests and requests for cooperating agency status may be filed electronically via the Internet in lieu of paper. The Commission strongly encourages electronic filings. See 18 CFR 385.2001(a)(1)(iii) and the instructions on the Commission's Web site (http://www.ferc.gov) under the “e-Filing” link.

l. This application is not ready for environmental analysis at this time.

m. The existing Spring Gap-Stanislaus Project is composed of four developments: Relief, Pinecrest, Spring Gap, and Stanislaus. It has a combined capacity of 98 MW.

The existing Donnells-Curtis Transmission Line Project is a 115 kV transmission line. Portions of the transmission line under FERC jurisdiction include an 8-mile segment extending from Donnells Powerhouse to Spring Gap Junction and the 2.2-mile tap line from Beardsley Powerhouse to Beardsley Junction.

The existing Beardsley/Donnell Project is composed of the Beardsley and Donnell Developments and has a combined capacity of 64 MW.

The existing Tulloch Project is composed of a single development and has a capacity of 17.1 MW.

n. A copy of the applications are available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item g. above.

o. With this notice, we are initiating consultation with the California State Historic Preservation Officer (SHPO), as required by § 106, National Historic Preservation Act, and the regulations of the Advisory Council on Historic Preservation, 36 CFR 800.4.

p. Procedural schedule and final amendments: The application will be processed according to the following Hydro Licensing Schedule. Revisions to the schedule will be made as appropriate.

Issue Acceptance or Deficiency Letter: March 2003

Request Additional Information: March 2003

Issue Scoping Document 1 for comments: June 2003

Hold Scoping Meeting: July 2003

Request Additional Information (if necessary): September 2003

Issue Scoping Document 2: September 2003

Notice that applications are ready for environmental analysis: September 2003

Notice of the availability of the draft NEPA document: March 2004

Initiate 10(j) process: May 2004

Notice of the availability of the final NEPA document: September 2004

Ready for Commission decision on the application: December 2004

Final amendments to the application must be filed with the Commission no later than 30 days from the issuance date of the notice of ready for environmental analysis.

Magalie R. Salas,
Secretary.

[FR Doc. 03-699 Filed 1-13-03; 8:45 am]

BILLING CODE 6717-01-P